SOCIAL SECURITY ADMINISTRATION

Statement of Organization, Functions and Delegations of Authority

This statement amends Part S of the Statement of the Organization, Functions and Delegations of Authority which covers the Social Security Administration (SSA). Chapter S2 covers the Deputy Commissioner, Operations. Notice is given that Subchapter S2R, the Office of Central Operations (OCO), is being amended to reflect the establishment of the Center for Security and Integrity (S2RC6) under the Associate Commissioner for Central Operations. Functions within some components in OCO are expanded or realigned. The new material and changes are as follows:

Section S2R.10 The Office of Central Operations—(Organization):

C. The Immediate Office of the Associate Commissioner, Office of Central Operations (OCO) (S2R).

4. The Assistant Associate Commissioner for Management and Operations Support (S2RC):

Establish:

f. The Center for Security and Integrity (S2RC6).

Section S2R.20 The Office of Central Operations—(Functions):

C. The Immediate Office of the Associate Commissioner, OCO (S2R).

2. The Assistant Associate Commissioner for International Operations (S2RE).

a. The Division of International Operations (DIO) (S2RE1):

Delete the eleventh sentence, i.e., “It designs and conducts validation and other special studies to foster integrity in the Social Security program overseas.”

3. The Assistant Associate Commissioner for Earnings Operations (S2RB).

a. The Division of Earnings Record Operations (S2RB1):

Add:

6. Provides information on all SSA-administered programs in response to telephone inquiries and requests for assistance from the public through SSA's 800 number system.

c. The Wilkes-Barre Data Operations Center (S2RB-F3):

Delete:

4. Is the central repository for SSI folders.

Add:

4. Provides information on all SSA-administered programs in response to telephone inquiries and requests for assistance from the public through SSA's 800 number system.

4. The Assistant Associate Commissioner for Management and Operations Support (S2RC):

Amend as follows:

The Assistant Associate Commissioner for Management and Operations Support (S2RC) is responsible for the direction of six centers which perform systems, management, program, material resources, personnel management services and security and integrity support functions for OCO.

b. The Center for Management Support (S2RC2): Delete Item 3 in its entirety.

d. The Center for Material Resources Support (S2RC4):

Add:

7. Is the central repository for SSI folders.

Establish:

f. The Center for Security and Integrity (S2RC6).

1. Performs independent integrity reviews to detect and prevent employee and beneficiary fraud. Plans, develops and implements the OCO security program, conducts security reviews. Reviews potential employee and beneficiary fraud cases and determines whether cases will be referred for prosecution.

2. Serves as a liaison with auditing and investigative agencies (OIG, GAO, etc.) on matters impacting the integrity of OCO operations.

3. Designs and conducts validation and other special studies to evaluate and foster integrity in Social Security programs overseas.

4. Conducts security awareness and LSO training and is responsible for OEO procedure and administration.

5. Administers the full range of program services for Individuals of Extraordinary National Prominence (IENP).

Dated: August 30, 2000.
Paul D. Barnes,
Deputy Commissioner for Human Resources.

[FR Doc. 00-23157 Filed 9-7-00; 8:45 am]

BILLING CODE 4191-02-P